DEPARTMENT OF STATE

[Public Notice 8351]

Notice of Meeting of Advisory Committee on International Law

A meeting of the Department of State's Advisory Committee on International Law will take place on Monday, June 24, 2013, from 9:30 a.m. to approximately 5:30 p.m., at the George Washington University Law School (Frederick Lawrence Student Conference Center), 2000 H Street NW., Washington, DC.

Acting Legal Adviser Mary McLeod will chair the meeting, which will be open to the public up to the capacity of the meeting room. The agenda covers a range of current international legal topics, including the Supreme Court's recent decision in Kiobel v. Royal Dutch Petroleum, Internet governance and international law, corporate social responsibility, compliance mechanisms for international humanitarian law, and the American Law Institute's new Restatement of the Foreign Relations Law of the United States.

This announcement might appear in the Federal Register less than 15 days prior to the meeting. The Department of State finds that there is an exceptional circumstance in this case. This advisory committee meeting must be held on June 24 because of the travel schedules of the Acting Legal Adviser and committee members.

Members of the public who wish to attend the meeting should, by Wednesday, June 19, 2013, notify the Office of the Legal Adviser (202-776-8442 or lermanjb@state.govmailto:KillTP@state.gov) of their name, professional affiliation, address, and phone number. A valid photo ID is required for admission to the meeting. Members of the public who require reasonable accommodations should make their requests by June 17, 2013. Requests received after that time will be considered but might not be possible to accommodate.

Dated: June 4, 2013.
Jonas Lerman,
Attorney-Adviser, Office of the Legal Adviser, Executive Director, Advisory Committee on International Law, United States Department of State.

[FR Doc. 2013-13719 Filed 6-7-13; 8:45 am]

BILLING CODE 4710-08-P